DEPARTMENT OF TRANSPORTATION

Federal Aviation Administration

[Docket No. FAA-2021-0167]

Agency Information Collection Activities: Requests for Comments; Clearance of a Renewed Approval of Information Collection: Rotorcraft External Load Operator Certificate Application

AGENCY: Federal Aviation Administration (FAA), DOT.

ACTION: Notice and request for comments.

SUMMARY: In accordance with the Paperwork Reduction Act of 1995, FAA invites public comments about our intention to request Office of Management and Budget (OMB) approval to renew an information collection. The collection involves the submission of FAA Form 8710-4 for the certification process of rotorcraft external-load operators. The information to be collected is necessary to evaluate the applicants' eligibility for certification.

DATES: Written comments should be submitted by April 27, 2021.

ADDRESSES: Please send written comments:

By Electronic Docket: www.regulations.gov (Enter docket number into search field)

By mail: Dwayne C. Morris, 800 Independence Ave. SW, Washington, DC 20591

By email: chris.morris@faa.gov

FOR FURTHER INFORMATION CONTACT: Raymond Plessinger by email at: raymond.plessinger@faa.gov; phone: 717-443-7296.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0044.

Title: Rotorcraft External Load Operator Certificate Application.

Form Numbers: FAA Form 8710-4.

Type of Review: Renewal.

Background: This collection involves the application for issuance or renewal of a 14 CFR part 133 Rotorcraft External Load Operator Certificate. Application for an original certificate or renewal of a certificate issued under 14 CFR part 133 is made on a form, and in a manner prescribed by the Administrator. The FAA form 8710-4 may be obtained from an FAA Flight Standards District Office, or online at https://www.faa.gov/documentLibrary/media/form/faa8710-4.pdf. The completed application is sent to the district office that has jurisdiction over the area in which the applicant's home base of operation is located.

The information collected includes: type of application, operator's name/DBA, telephone number, mailing address, physical address of the principal base of operations, chief pilot/designee name, airman certificate grade and number, rotorcraft make, model and registration numbers to be used, and load combinations requested.

Respondents: 357 active part 133 certificate-holders.

Frequency: New applications when needed; current 14 CFR part 133 certificate-holders must renew every 24 months.

Estimated Average Burden per Response: 30 minutes per application.

Estimated Total Annual Burden: 89 total hours per year.

Issued in Washington, DC, on February 23, 2021.
Dwayne C. Morris,
Project Manager, Flight Standards Service, General Aviation and Commercial Division.

[FR Doc. 2021-04037 Filed 2-25-21; 8:45 am]

BILLING CODE 4910-13-P